DEPARTMENT OF HEALTH AND HUMAN SERVICES

National Institutes of Health

Nominations to the Report on Carcinogens; Request for Information

SUMMARY: National Toxicology Program (NTP) Office of the Report on Carcinogens (ORoC) requests information on 20 substances, mixtures, and exposure circumstances (collectively referred to as “substances”) nominated for possible review for future editions of the Report on Carcinogens (RoC).

DATES: The deadline for receipt of information is October 18, 2013.

ADDRESSES: Information can be submitted electronically on the ORoC nomination page (http://ntp.niehs.nih.gov/go/rocnom) or to lunn@niehs.nih.gov.

FOR FURTHER INFORMATION CONTACT: Dr. Ruth Lunn, Director, ORoC, DNTP, NIEHS, P.O. Box 12233, MD K2-14, Research Triangle Park, NC 27709; telephone (919) 316-4637; FAX: (301) 480-2970; lunn@niehs.nih.gov. Courier address: NIEHS, Room 2138, 530 Davis Drive, Morrisville, NC 27560.

SUPPLEMENTARY INFORMATION: Request for Information: The NTP requests information on the 20 substances listed below that have been nominated for possible review for future editions of the RoC (for more information, see http://ntp.niehs.nih.gov/go/rocnom). Specifically, the NTP requests information on each substance for the following topics: (1) data on current production, use patterns, and human exposure; (2) information about published, ongoing, or planned studies related to evaluating carcinogenicity; (3) scientific issues important for assessing carcinogenicity of the substance; and (4) names of scientists with expertise or knowledge about the substance. Please include any available bibliographic citations for the information. The NTP will use this information for identifying nominated substances to propose for formal evaluation for the RoC.

20 Substances Nominated to the RoC*

• Aloe vera whole leaf extract (Aloe barbadensis Miller)

• 2-Butoxyethanol (CAS No. 111-76-2)

• Chlorothalonil (2,4,5,6-tetrachloro-isophthalonitrile) (CAS No. 1897-45-6)

• Coconut diethanolamide (CAS No. 68603-42-9)

• Cobalt (metal) (CAS No. 7440-48-4)

• Decalin (CAS No. 91-17-8)

• Ginkgo biloba extract

• Goldenseal root powder (Hydrastis canadensis)

• Kava kava extract

• 2-Methylimidazole (CAS No. 693-98-1)

• 4-Methylimidazole (CAS No. 822-36-6)

• Methyl isobutyl ketone (CAS No. 108-10-1)

• Nickel nanoparticles

• Nitro polycyclic aromatic hydrocarbons (PAH) as a class

• Perfluorooctanoic acids (PFOA) (CAS No. 335-67-1)

• Polyacrylates

• Pulegone (CAS No. 89-82-7)

• Tetralin (CAS No. 119-64-2)

• Tris-(1,3-dichloro-2-propyl) phosphate (chlorinated Tris, TDCPP) (CAS No. 13674-87-8)

• Wood smoke

* Nominations to the RoC may seek to list a new substance in the report, reclassify the listing status of a substance already listed, or remove a listed substance.

Information can be submitted electronically on the ORoC nomination page (http://ntp.niehs.nih.gov/go/rocnom) or by email to lunn@niehs.nih.gov. If submitting by email, please include the submitter's name, affiliation, mailing address, phone, email, and sponsoring organization (if any) with the document. Written information received in response to this notice will be posted on the NTP Web site, and the submitter will be identified by name, affiliation, and/or sponsoring organization.

Responses to this request for information are voluntary. This request for information is for planning purposes only and is not a solicitation for applications or an obligation on the part of the U.S. Government to provide support for any ideas identified in response to it. Please note that the U.S. Government will not pay for the preparation of any information submitted or for its use. No proprietary, classified, confidential, or sensitive information should be included in your response.

Background Information on the RoC: The RoC is a congressionally mandated, science-based, public health report that identifies agents, substances, mixtures, or exposures (collectively called “substances”) in our environment that pose a cancer hazard for people in the United States. The NTP prepares the RoC on behalf of the Secretary of Health and Human Services. The NTP follows an established, four-part process for preparation of the RoC (http://ntp.niehs.nih.gov/go/rocprocess). Published biennially, each edition of the RoC is cumulative and consists of substances newly reviewed in addition to those listed in previous editions. The 12th RoC, the latest edition, was published on June 10, 2011 (available at http://ntp.niehs.nih.gov/go/roc12). The 13th RoC is under development.

Dated: September 16, 2013.
John R. Bucher,
Associate Director, National Toxicology Program.

[FR Doc. 2013-22890 Filed 9-19-13; 8:45 am]

BILLING CODE 4140-01-P